DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (Federal Register, Vol. 67, No. 81, pp. 20804-20805 dated April 26, 2002) is amended to reflect a change to the organizational structure of CMS by establishing the Office of Operations Management.

The specific amendments to part F are described below:

• Section F.10. (Organization) is amended to read as follows:

1. Public Affairs Office (FAC)

2. Center for Beneficiary Choices (FAE)

3. Office of Legislation (FAF)

4. Center for Medicare Management (FAH)

5. Office of Equal Opportunity and Civil Rights (FAJ)

6. Office of Research, Demonstration, and Information (FAK)

7. Office of Communications and Operations Support (FAL)

8. Office of Clinical Standards and Quality (FAM)

9. Office of the Actuary (FAN)

10. Center for Medicaid and State Operations (FAS)

11. Northeastern Consortium (FAU)

12. Southern Consortium (FAV)

13. Midwestern Consortium (FAW)

14. Western Consortium (FAX)

15. Office of Operations Management (FAY)

16. Office of Internal Customer Support (FBA)

17. Office of Information Services (FBB)

18. Office of Financial Management (FBC)

• Section F.20. (Functions) is amended by adding the functional statement for the Office of Operations Management. The new functional statement reads as follows:

7. Office of Operations Management (FAY)

• Analyzes and evaluates project time lines, schedules, and new methodologies. Evaluates and recommends project management alternatives to the Deputy Administrator/Chief Operating Officer (COO) and the Agency.

• Prepares and presents recommendations to the Administrator, Deputy Administrator/ COO, other high level CMS, and Department officials on planning, leadership, implementation, and policy issues concerning modifications to existing and proposed operating policies that will improve the administration and operations of programs and the Agency as a whole.

• With appropriate CMS components to collect and disseminate data on health care and insurance market trends that affect CMS's business risk profile. The Risk Management Staff has the lead for monitoring indicators of risk associated with the operations of CMS and our business partners.

• Surveys risk assessment techniques in use in the private and public sectors and identifies and applies the most useful ones for CMS. Helps develop new risk assessment techniques and keeps abreast of methodological developments in the professional literature.

• Promotes and teaches risk assessment methods to business owners throughout CMS. Promotes awareness of the importance of risk analysis as a component of business planning and trains CMS staff in specific techniques and their applicability in particular situations.

• Educates and reaches out to the public and internal CMS staff on the Health Insurance Portability and Accountability Act (HIPAA) issues. Formulates and coordinates a public relations campaign, prepares and delivers presentations and speeches, responds to inquires on HIPAA issues, and liaisons with industry representatives.

• Provides technical coordination regarding development of HIPAA tools, including transaction testing, and coordinates requirements for Enumeration systems.

• Provides consulting services internally to Agency management and staff to identify processes or contracts that need improvement, to develop improvement strategies, and to monitor processes and improvements over time.

• Participates in Agency-wide initiatives to streamline operations, improve accountability and performance, and implement management best practices. Provides leadership, training, and coaching in the implementation of the initiatives. Promotes a continuous improvement ethos.

Specific Project Management Functions

• Develops, in conjunction with staff in CMS centers and offices, major project plans, implementation schedules and post implementation evaluations.

• Promotes project planning principles throughout the Agency and provides technical guidance to the Agency on project planning and management techniques.

• Reports to the Deputy Administrator/COO and senior officials on progress of Agency priority projects. Negotiates with and supports project and component heads regarding project schedules, progress, etc.

• Prepares and presents recommendations to senior officials regarding major projects.

• Analyzes and evaluates project time lines, schedules, and new methodologies. Evaluates and recommends project management alternatives to the Deputy Administrator/COO and the Agency.

• Conducts process control analysis and tracking to ensure projects are running smoothly.

• Prepares and presents recommendations to the Administrator, Deputy Administrator/COO, and other high level CMS and Department officials on planning, leadership, implementation and policy issues concerning modifications to existing and proposed operating policies that will improve the administration and operations of programs and the Agency as a whole.

Specific Operational Review Functions

• Plans and conducts targeted operational reviews and recommends process and policy improvements to improve the operations of the Agency. The subjects of these reviews will be determined through regular periodic consultation with the Project Management Staff, Risk Management Staff, the Director of the Office of Operations Management, and the Deputy Administrator/COO. Drafts written reports summarizing conclusions and presents findings to appropriate officials for follow-up actions.

• Reviews and evaluates enterprise-wide programs, projects, and processes to assess their effectiveness and efficiency, compliance with laws and regulations, or adequacy of management processes.

• Provides consulting services internally to Agency management and staff to identify processes or contracts that need improvement, to develop improvement strategies, and to monitor processes and improvements over time.

• Participates in agency-wide initiatives to streamline operations, improve accountability and performance, and implement management best practices. Provides leadership, training, and coaching in the implementation of the initiatives. Promotes a continuous improvement ethos.

• Collaborates with the Risk Management Staff, Project Management Staff, and CMS senior management to identify and address enterprise-wide risk factors that lead to ineffective or inefficient operations.

• Identifies operational vulnerabilities in CMS and develops and executes an operational review plan for each fiscal year, subject to approval by the Deputy Administrator/COO and other senior leadership of CMS.

Dated: June 5, 2002.
Ruben J. King-Shaw, Jr.,
Deputy Administrator and Chief Operating Officer, Centers for Medicare & Medicaid Services.

[FR Doc. 02-14949 Filed 6-27-02; 8:45 am]

BILLING CODE 4120-01-P